FEDERAL COMMUNICATIONS COMMISSION

Radio Broadcasting Services; AM or FM Proposals To Change the Community of License

AGENCY: Federal Communications Commission.

ACTION: Notice.

SUMMARY: The following applicants filed AM or FM proposals to change the community of license: Atlantic Broadcasting of Linwood NJ Limited Liability Co., Station WTKU-FM, Facility ID 3139, BPH-20091009ACN, From Ocean City, NJ, to Petersburg, NJ; Atlantic Broadcasting of Linwood NJ Limited Liability Co., Station WJSE, Facility ID 51575, BPH-20091009ACO, From Petersburg, NJ, to Ocean City, NJ; Azalea Radio Corporation, Station New, Facility ID 183370, BNPH-20091019AEL, From Sparkman, AR, to Caddo Valley, AR; BAS BROADCASTING, INC., Station WPFX-FM, Facility ID 7821, BPH-20090915ACX, From North Baltimore, OH, to Luckey, OH; Big Cat Broadcasting, LLC, Station NEW, Facility ID 183367, BNPH-20091019ACP, From Arthur, NE, to Hay Springs, NE; Big Cat Broadcasting, LLC, Station NEW, Facility ID 183365, BNPH-20091019AEI, From Browning, MT, to Lakeside, MT; Board of Regents, Southeast Missouri State University, Station KSEF, Facility ID 90232, BMPED-20090930AII, From Farmington, MO, to STE. Genevieve, MO; Cochise Media Licenses, LLC, Station NEW, Facility ID 183359, BNPH-20090929AMO, From Crawford, CO, to Battlement Mesa, CO; Cochise Media Licenses, LLC, Station New, Facility ID 183358, BNPH-20091016ADO, From Peach Springs, AZ, to Oatman, AZ; College Creek Media, LLC, Station KCLS, Facility ID 55461, BPH-20091016AEO, From PIOCHE, NV, to Leeds, UT; Emmis Radio License, LLC, Station KPNT, Facility ID 56525, BPH-20081121ALQ, From St. Genevieve, MO, to Collinsville, IL; Global News Consultants, LLC, Station KYTS, Facility ID 165979, BPH-20091006ACU, From Ten Sleep, WY, to Manderson, WY; Good Shepherd Radio, INC., Station WYGS, Facility ID 90693, BPED-20091023AKX, From Columbus, IN, to Hope, IN; Hoosier Broadcasting Corporation, Station WCNB, Facility ID 93231, BMPED-20090925ABC, From Lebanon, IN, to Dayton, IN; In Phase Broadcasting, Inc., Station KNPE, Facility ID 170975, BMPH-20090917ACW, From Hyannis, NE, to Bayard, NE; JLF Communications, LLP, Station KTON, Facility ID 60091, BP-20090714AAQ, From Belton, TX, to Kaufman, TX; King, Bryan A, Station New, Facility ID 183321, BNPH-20091019AFO, From Floydada, TX, to Lockney, TX; Lincoln County School District, Station New, Facility ID 175553, BMPED-20091016AEN, From Panaca, NV, to Pioche, NV; Mary V Harris Foundation, Station WSJL, Facility ID 88660, BPED-20091023AKY, From Northport, AL, to Bessemer, AL; Miriam Media, Inc., Station New, Facility ID 170982, BNPH-20070406ABY, From Willow Creek, CA, to Loleta, CA; NRC Broadcasting Mountain Group, LLC, Station KIDN-FM, Facility ID 57339, BPH-20091026ACE, From Hayden, CO, to Burns, CO; Reising Radio Partners, Inc., Station WXCH, Facility ID 16255, BPH-20091023AKQ, From Hope, IN, to Columbus, IN; RF Services Inc., Station New, Facility ID 183347, BNPH-20091019AFF, From Rocksprings, TX, to Brackettville, TX; Southeastern Ohio Broadcasting System, Inc, Station New, Facility ID 183304, BNPH-20091015AAE, From Mcconnelsville, OH, to Philo, OH; SSR Communications, Inc., Station New, Facility ID 183340, BNPH-20091019AAO, From Lake Providence, LA, to Delta, LA; Sunnylands Broadcasting LLC, Station New, Facility ID 183327, BNPH-20091016ADU, From Amboy, CA, to Twentynine Palms Base, CA; Wifredo G. Blanco-PI, Station NEW, Facility ID 181037, BPEX-20090706AHD, From San Juan, PR, to Guayama, PR; Williams Communications, Inc., Station WFXO, Facility ID 10701, BPH-20091015ABV, From Centre, AL, to Southside, AL.

DATES: Comments may be filed through February 1, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

Federal Communications Commission.
James D. Bradshaw,
Deputy Chief, Audio Division, Media Bureau.

[FR Doc. E9-28695 Filed 11-30-09; 8:45 am]

BILLING CODE 6712-01-P